DEPARTMENT OF HOMELAND SECURITY

[Docket No. DHS-2022-0059]

Faith Based Security Advisory Council

AGENCY: The Department of Homeland Security (DHS), the Office of Partnership and Engagement (OPE).

ACTION: Notice of new taskings for the Faith Based Security Advisory Council (FBSAC).

SUMMARY: On January 24, 2023, the Secretary of DHS, Alejandro N. Mayorkas, tasked the Faith-Based Security Advisory Council (FBSAC) to form three subcommittees further outlined below. This notice is not a solicitation for membership.

FOR FURTHER INFORMATION CONTACT: Sameer Hossain, Designated Federal Officer, Faith-Based Security Advisory Council, Office of Partnership and Engagement, U.S. Department of Homeland Security at FBSAC@hq.dhs.gov or 202-891-2876.

SUPPLEMENTARY INFORMATION: The FBSAC provides organizationally independent, strategic, timely, specific, and actionable advice to the Secretary through the Assistant Secretary for OPE, who serves as the DHS Faith-Based Organizations Security Coordinator on security and preparedness matters related to places of worship, faith communities, and faith-based organizations. The FBSAC serves strictly as an advisory body with the purpose of providing advice upon the request of the Secretary.

The three subcommittees are as follows:

Subcommittee (1): Information Sharing

A subcommittee to provide recommendations on how the Department can more efficiently and effectively share information to enhance the security and preparedness of places of worship, faith communities, and faith-based organizations.

Subcommittee (2): DHS Grants and Resources

A subcommittee to provide recommendation on how the Department can most effectively and appropriately share resources that meet the needs of diverse faith-based organizations and communities, including remedying challenges to applying for DHS grants.

Subcommittee (3): Building Partnerships

A subcommittee to provide recommendations on how the Department can build trust and resilience with faith community stakeholders.

Tasking (1): Information Sharing

The Department must prioritize timely two-way sharing of threat and security-related information with faith-based organizations in order protect faith-based organizations and all members of the public.

This subcommittee is tasked to provide recommendations:

1. Regarding the efficiency and effectiveness of the Department's information sharing and how the Department can enhance the security and preparedness of places of worship, faith communities, and faith-based organizations.

2. For new information-sharing mechanisms, whether via existing information-sharing platforms or networks, or by creating a new process that will effectively communicate threat information and other relevant federal resources to faith communities of diverse backgrounds.

Tasking (2): DHS Grants and Resources

Following the hostage situation at the Congregation Beth Israel synagogue in Colleyville, Texas, Secretary Mayorkas called for an increase in funding for the Nonprofit Security Grant Program (NSGP). This program provides essential resources to help protect nonprofit organizations at risk of terrorist attacks.

In Fiscal Year 2022, Congress provided $250 million for the NSGP, an increase of $70 million from the prior year. For Fiscal Year 2023, Congress increased the NSGP funding to $305 million, a 22% increase on Fiscal Year 2022. These increases allowed more nonprofit organizations across the nation to make physical security enhancements to help protect against attacks. These increases also enable DHS to expand participation in this critical program and increase our support to historically marginalized communities and Historically Black Colleges and Universities in an effort to build capacity and address an evolving threat environment. One of the Secretary's priorities is to ensure equity in all DHS grant awards.

This FBSAC subcommittee is tasked to provide recommendations on:

1. How the Department can most effectively and appropriately address challenges to applying for DHS grants for which faith-based organizations are eligible, as well as how best these grants can meet the needs of faith-based organizations.

2. How the Department's existing resources can better meet the needs of diverse faith-based organizations and communities, in addition to providing grants.

3. The development and implementation of specific best practices to prevent, protect against, respond to, and recover from acts of targeted violence or terrorism, major disasters, cyberattacks, or other threats or emergencies while preserving individual privacy and civil rights and civil liberties.

Tasking (3): Building Partnerships

DHS is defined by its partnerships—not only with law enforcement, emergency responders, and our international partners, but also with the diverse communities we serve. To protect the homeland, we must have strong relationships with these communities and work in partnership to build strong, resilient communities.

This subcommittee is tasked to provide recommendations on:

1. How the Department can build trust with faith community stakeholders to better understand their concerns, including real or perceived threats from violent actors or groups.

2. How the Department can empower local leaders to mobilize resources to mitigate and respond to threats.

Schedule: The three subcommittees' findings and recommendations will be submitted to the FBSAC for its deliberation and vote during a public meeting. Once the recommendations from the three subcommittees are voted on by the FBSAC, they will be submitted to the Secretary. Each subcommittee will submit their findings and recommendations to the FBSAC in May 2023.

Dated: February 2, 2023.
Nicole M. Rosich,
Alternate Designated Federal Officer, Faith-Based Security Advisory Council, U.S. Department of Homeland Security.

[FR Doc. 2023-02620 Filed 2-7-23; 8:45 am]

BILLING CODE 9112-FN-P